NATIONAL AERONAUTICS AND SPACE ADMINISTRATION

[Notice 10-011]

NASA Advisory Council; Meeting

AGENCY: National Aeronautics and Space Administration.

ACTION: Notice of Meeting.

SUMMARY: In accordance with the Federal Advisory Committee Act, Public Law 92-463, as amended, the National Aeronautics and Space Administration announces a meeting of the newly formed Information Technology Infrastructure Committee of the NASA Advisory Council. This will be the first meeting of this Committee.

DATES: February 11, 2010—11 a.m.-1 p.m. (EST).

Meet-Me-Number: 1-877-613-3958; #2939943.

ADDRESSES: NASA Headquarters, 300 E Street, SW., Washington, DC, Room 2N35

FOR FURTHER INFORMATION CONTACT: Ms. Tereda J. Frazier, Executive Secretary for the Information Technology Infrastructure Committee, National Aeronautics and Space Administration Headquarters, Washington, DC, 20546, (202) 358-2595.

SUPPLEMENTARY INFORMATION: The topics of discussion for the meeting are the following:

• Committee Responsibilities.

• Committee Processes.

• NASA IT Infrastructure Overview.

• Nomination of Early Work Areas.

It is imperative that these meetings be held on this date to accommodate the scheduling priorities of the key participants. Attendees will be requested to comply with NASA security requirements, including the presentation of a valid picture ID, before receiving an access badge. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, phone); and title/position of attendee. To expedite admittance, attendees with U.S. citizenship can provide identifying information 3 working days in advance by contacting Ms. Tereda J. Frazier via e-mail at tereda.j.frazier@nasa.gov or by telephone at (202) 358-2595. Persons with disabilities who require assistance should indicate this.

Dated: January 22, 2010.
P. Diane Rausch,
Advisory Committee Management Officer, National Aeronautics and Space Administration.

[FR Doc. 2010-1638 Filed 1-27-10; 8:45 am]

BILLING CODE 7510-13-P